DEPARTMENT OF AGRICULTURE

Animal and Plant Health Inspection Service

[Docket No. APHIS-2011-0059]

Notice of Establishment of a New Plant Protection and Quarantine Stakeholder Registry

AGENCY: Animal and Plant Health Inspection Service, USDA.

ACTION: Notice.

SUMMARY: This notice announces the availability of a new Plant Protection and Quarantine email subscription service and advises current subscribers on how to continue receiving emails on topics of interest.

FOR FURTHER INFORMATION CONTACT: For information on the PPQ Stakeholder Registry, contact Ms. Donna L. West, Senior Import Specialist, Regulatory Coordination and Compliance, PPQ, APHIS, 4700 River Road Unit 133, Riverdale, MD 20737; (301) 734-0627.

SUPPLEMENTARY INFORMATION: The Plant Protection and Quarantine (PPQ) stakeholder registry is an email subscription service that allows individuals to receive information about PPQ activities on a variety of plant health topics. PPQ has redesigned the registry to enable PPQ to more effectively communicate urgent messages to the public and keep the public informed on day-to-day activities. Current subscribers will need to subscribe to the new PPQ Stakeholder Registry in order to continue receiving emails on PPQ-related topics.

Subscribers will be able to choose from an array of PPQ topics such as PPQ hot issues, Federal notices, irradiation programs, foreign pests and diseases, plant pest programs, and updates to manuals and the Fruits and Vegetables Import Requirements database. Subscribers may also select how often to receive emails, Really Simple Syndication (RSS) feeds, or Short Message Service (SMS) messages.

Current and new subscribers may sign up now for the new registry at https://public.govdelivery.com/accounts/USDAAPHIS/subscriber/new or by clicking on the red envelope icon throughout the plant health pages on the APHIS Web site at http://www.aphis.usda.gov/plant_health/index.shtml. The current PPQ stakeholder registry will be disabled on July 8, 2011. Questions concerning the PPQ stakeholder registry may be directed to APHISPPQstakeholderregistry@aphis.usda.gov.

Done in Washington, DC, this 17th day of June 2011.
Kevin Shea,
Acting Administrator, Animal and Plant Health Inspection Service.

[FR Doc. 2011-15700 Filed 6-22-11; 8:45 am]

BILLING CODE 3410-34-P